SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before October 30, 2000.

ADDRESSES: Send all comments regarding these information collections are necessary for the proper performance of the function of the agency, whether the burden estimate are accurate, and if there are ways to minimize the estimated burden and enhance the quality of the collections, to George Solomon, Supervisory Business Development Officer, Office of Business Initiatives, Small Business Administration, 409 3rd Street, SW., Suite 6100.

FOR FURTHER INFORMATION CONTACT: George Solomon, Supervisory Business Development Officer, 202-205-6024 or Curtis B. Rich, Management Analyst, 202-205-7030.

SUPPLEMENTARY INFORMATION: Title: “National Training Participant Evaluation Questionnaire.”

Form No: 20.

Description of Respondents: Individuals Receiving SBA Training and Counseling Assistance.

Annual Responses: 26,000.

Annual Burden: 6,500.

Title: “SBA Counseling Evaluation.”

Form No: 1419.

Description of Respondents: Small Business Clients.

Annual Responses: 2,800.

Annual Burden: 476.

ADDRESSES: Send all comments regarding whether this information collection is necessary for the proper performance of the function of the agency, whether the burden estimate is accurate, and if there are ways to minimize the estimated burden and enhance the quality of the collection, to Alicia McPhie, Chief Equal Employment and Opportunity, Office of Equal Employment Opportunity & Civil Rights Compliance, Business Administration, 409 3rd Street, SW., Suite 6400.

FOR FURTHER INFORMATION CONTACT: Alicia McPhie, Chief Equal Employment and Opportunity, 202-205-6750 or Curtis B. Rich, Management Analyst, 202-205-7030.

SUPPLEMENTARY INFORMATION:

Title: “Notice to New Borrowers.”

Form No: 793.

Description of Respondents: Companies are required to keep records in order for SBA to determine the compliance status of the recipient.

Annual Responses: 26,420.

Annual Burden: 6,044.

ADDRESSES: Send all comments regarding whether this information collection is necessary for the proper performance of the function of the agency, whether the burden estimate is accurate, and if there are ways to minimize the estimated burden and enhance the quality of the collection, to Jacqueline Fleming, National Training Coordinator, Office of Minority Enterprise Development, Small Business Administration, 409 3rd Street, SW., Suite 8000.

FOR FURTHER INFORMATION CONTACT: Jacqueline Fleming, National Training Coordinator, 202-205-6177 or Curtis B. Rich, Management Analyst, 202-205-7030.

SUPPLEMENTARY INFORMATION: Title: “8(a) Electronic Application follow-up Survey.”

Form No: N/A.

Description of Respondents: Potential 8(a) Applicants.

Annual Responses: 106.

Annual Burden: 17.

Jacqueline White,
Chief, Administrative Information Branch.

[FR Doc. 00-22234 Filed 8-30-00; 8:45 am]

BILLING CODE 8025-01-M